DEPARTMENT OF TRANSPORTATION

Federal Aviation Administration

14 CFR Part 39

[Docket No. FAA-2016-5431; Directorate Identifier 2015-CE-044-AD; Amendment 39-18593; AD 2016-15-02]

RIN 2120-AA64

Airworthiness Directives; M7 Aerospace LLC Airplanes

AGENCY: Federal Aviation Administration (FAA), DOT.

ACTION: Final rule.

SUMMARY: We are adopting a new airworthiness directive (AD) for all M7 Aerospace LLC Models SA26-AT, SA26-T, SA226-AT, SA226-T, SA226-T(B), SA226-TC, SA227-AC (C-26A), SA227-AT, SA227-BC (C-26A), SA227-CC, SA227-DC (C-26B), and SA227-TT airplanes. This AD was prompted by reports of multiple cracks in the steel horizontal tube of the cockpit control column. This AD requires inspection of the cockpit control column horizontal tube for cracks and repair or replacement of the cockpit control column as necessary. We are issuing this AD to correct the unsafe condition on these products.

DATES: This AD is effective August 26, 2016.

The Director of the Federal Register approved the incorporation by reference of certain publications listed in this AD as of August 26, 2016.

ADDRESSES: For service information identified in this final rule, contact M7 Aerospace LLC, 10823 NE Entrance Road, San Antonio, Texas 78216; phone: (210) 824-9421; fax: (210) 804-7766; Internet: http://www.elbitsystems-us.com; email: MetroTech@M7Aerospace.com. For information on the availability of this material at the FAA, call 816-329-4148. It is also available on the internet at http://www.regulations.gov by searching for and locating Docket No. FAA-2016-5431.

Examining the AD Docket

You may examine the AD docket on the Internet at http://www.regulations.gov by searching for and locating Docket No. FAA-2016-5431; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Andrew McAnaul, Aerospace Engineer, FAA, ASW-143 (c/o San Antonio MIDO), 10100 Reunion Place, Suite 650, San Antonio, Texas 78216; phone: (210) 308-3365; fax: (210) 308-3370; email: andrew.mcanaul@faa.gov.

SUPPLEMENTARY INFORMATION:

Discussion

We issued a notice of proposed rulemaking (NPRM) to amend 14 CFR part 39 by adding an AD that would apply to all M7 Aerospace LLC Models SA26-AT, SA26-T, SA226-AT, SA226-T, SA226-T(B), SA226-TC, SA227-AC (C-26A), SA227-AT, SA227-BC (C-26A), SA227-CC, SA227-DC (C-26B), and SA227-TT airplanes. The NPRM published in the Federal Register on April 1, 2016 (81 FR 18804). The NPRM was prompted by reports of multiple cracks in the cockpit control column horizontal tube at the corners of the access panel cutout, at the pulley bolt welds, and at the elevator arm weld in the steel horizontal tube of the control column on M7 Aerospace SA26, SA226, and SA227 airplanes. The NPRM proposed to require inspection of the cockpit control column horizontal tube for cracks and repair or replacement of the cockpit control column as necessary. This condition, if not corrected, could result in partial or complete control column failure with partial or complete loss of pitch and/or roll control. We are issuing this AD to correct the unsafe condition on these products.

Comments

We gave the public the opportunity to participate in developing this AD. The following presents the comment received on the NPRM (81 FR 18804, April 1, 2016) and the FAA's response to the comment.

Request for Previously Done Credit

Michael O'Brien at Bearskin Airlines commented they had been complying with this AD by accomplishing the service bulletins that are listed in the proposed AD. He asked if it would be acceptable to just accomplish a technical records research to see when the required actions were last done.

We agree that credit should be given for actions previously done with the service bulletins called out in the NPRM. The NPRM already allows for this with the phrase “unless already done” in paragraphs (g)(1) and (2) of the NPRM.

Because the requested change is already part of this AD, we have not changed the final rule AD action based on this comment.

Conclusion

We reviewed the relevant data, considered the comment received, and determined that air safety and the public interest require adopting this AD as proposed except for minor editorial changes. We have determined that these minor changes:

• Are consistent with the intent that was proposed in the NPRM (81 FR 18804, April 1, 2016) for correcting the unsafe condition; and

• Do not add any additional burden upon the public than was already proposed in the NPRM (81 FR 18804, April 1, 2016).

Related Service Information Under 1 CFR Part 51

We reviewed M7 Aerospace LLC SA26 Series Service Bulletin (SB) 26-27-002, M7 Aerospace LLC SA226 Series SB 226-27-078, M7 Aerospace LLC SA227 Series SB 227-27-058, and M7 Aerospace LLC SA227 Series SB CC7-27-030, all dated October 8, 2015. The service information describes procedures for inspection of the cockpit control column horizontal tube for cracks and repair or replacement of the cockpit control column as necessary. All of the related service information is reasonably available because the interested parties have access to it through their normal course of business or by the means identified in the ADDRESSES section of this NPRM.

Costs of Compliance

We estimate that this AD affects 350 airplanes of U.S. registry.

We estimate the following costs to comply with this AD:

Estimated Costs
Action | Labor cost | Parts cost | Cost per product | Cost on U.S. operators
Inspection | 12 work-hours × $85 per hour = $1,020 | Not applicable | $1,020 | $357,000

We estimate the following costs to do any necessary repairs/replacements that would be required based on the results of the inspection. We have no way of determining the number of airplanes that might need these repairs/replacements:

On-Condition Costs
Action | Labor cost | Parts cost | Cost per product
Repair cracks | 2 work-hours × $85 per hour = $170 | Not applicable | $170
Replace parts | 16 work-hours × $85 per hour = $1,360 | $5,000 | 6,360

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-15-02 M7 Aerospace LLC: Amendment 39-18593; Docket No. FAA-2016-5431; Directorate Identifier 2016-CE-044-AD.

(a) Effective Date

This AD is effective August 26, 2016.

(b) Affected ADs

None.

(c) Applicability

This AD applies to M7 Aerospace LLC Models SA26-AT, SA26-T, SA226-AT, SA226-T, SA226-T(B), SA226-TC, SA227-AC (C-26A), SA227-AT, SA227-BC (C-26A), SA227-CC, SA227-DC (C-26B), and SA227-TT airplanes, all serial numbers, certificated in any category.

(d) Subject

Joint Aircraft System Component (JASC)/Air Transport Association (ATA) of America Code 2700, Flight Controls.

(e) Unsafe Condition

This AD was prompted by reports of multiple cracks in the steel horizontal tube of the cockpit control column. We are requiring repetitive inspections of the cockpit control column horizontal tube with repair or replacement, as necessary, of the cockpit control column. We are issuing this AD to correct the unsafe condition on these products.

(f) Compliance

Comply with paragraphs (g)(1) through (2) of this AD using the following service bulletins within the compliance times specified below, unless already done:

(1) For Models SA26-T and SA26-AT: M7 Aerospace LLC Service Bulletin (SB) 26-27-002, dated October 8, 2015;

(2) For Models SA226-AT, SA226-T, SA226-T(B), and SA226-TC: M7 Aerospace LLC SB 226-27-078, dated October 8, 2015;

(3) For Models SA227-AC(C-26A), SA227-AT, SA227-BC(C-26A), and SA227-TT: M7 Aerospace LLC SB 227-27-058, dated October 8, 2015; or

(4) For Models SA227-CC and SA227-DC (C-26B): M7 Aerospace LLC SB CC7-27-030, dated October 8, 2015.

(g) Actions

(1) For all airplanes: Within the next 2,000 hours time-in-service (TIS) after [insert date 35 days after date of publication in the Federal Register] (the effective date of this AD) or no later than when the airplane accumulates 20,000 hours TIS, whichever occurs later, do an initial inspection of the cockpit control column horizontal tube for cracks following the Accomplishment Instructions in section 2. of the service bulletins identified in paragraphs (f)(1), (2), (3), or (4) of this AD, as applicable; and repetitively inspect as follows:

(i) For airplanes with less than 35,000 hours TIS as of [insert date 35 days after date of publication in the Federal Register] (the effective date of this AD): Repetitively inspect the cockpit control column horizontal tube for cracks every 5,000 hours TIS until the airplane reaches 35,000 hours TIS at which time do the inspection within 2,000 hours TIS from the last inspection or within the next 100 hours TIS, whichever occurs later, and then thereafter at intervals not to exceed 2,000 hours TIS.

(ii) For airplanes with 35,000 hours TIS or more as of [insert date 35 days after date of publication in the Federal Register] (the effective date of this AD): Repetitively inspect the cockpit control column horizontal tube for cracks every 2,000 hours TIS.

(2) For all airplanes: If any cracks are found following the inspections required in paragraphs (g)(1), (g)(1)(i), or (ii), as applicable, before further flight, repair the control column following the Accomplishment Instructions in section 2. of the service bulletins identified in paragraphs (f)(1), (2), (3), or (4), as applicable, of this AD.

Note to paragraph (g)(1) through (2) of this AD: The reporting of information requested in paragraph 2.H. of the Accomplishment Instructions in the service bulletins identified in paragraphs (f)(1), (2), (3), and (4) of this AD is not a required action of this AD.

(h) Alternative Methods of Compliance (AMOCs)

(1) The Manager, Fort Worth Airplane Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD.

(2) Before using any approved AMOC, notify your appropriate principal inspector, or lacking a principal inspector, the manager of the local flight standards district office/certificate holding district office.

(i) Related Information

For more information about this AD, contact Andrew McAnaul, Aerospace Engineer, FAA, ASW-143 (c/o San Antonio MIDO), 10100 Reunion Place, Suite 650, San Antonio, Texas 78216; phone: (210) 308-3365; fax: (210) 308-3370; email: andrew.mcanaul@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) M7 Aerospace LLC Service Bulletin (SB) 26-27-002, dated October 8, 2015;

(ii) M7 Aerospace LLC SB 226-27-078, dated October 8, 2015;

(iii) M7 Aerospace LLC SB 227-27-058, dated October 8, 2015; or

(iv) M7 Aerospace LLC SB CC7-27-030, dated October 8, 2015.

(3) For service information identified in this AD, contact M7 Aerospace LLC, 10823 NE Entrance Road, San Antonio, Texas 78216; phone: (210) 824-9421; fax: (210) 804-7766; Internet: http://www.elbitsystems-us.com; email: MetroTech@M7Aerospace.com.

(4) You may view this referenced service information at the FAA, Small Airplane Directorate, 901 Locust, Kansas City, Missouri 64106. For information on the availability of this material at the FAA, call 816-329-4148.

(5) You may view this service information that is incorporated by reference at the National Archives and Records Administration (NARA). For information on the availability of this material at NARA, call 202-741-6030, or go to: http://www.archives.gov/federal-register/cfr/ibr-locations.html.

Issued in Kansas City, Missouri, on July 13, 2016.
Pat Mullen,
Acting Manager, Small Airplane Directorate, Aircraft Certification Service.

[FR Doc. 2016-17039 Filed 7-21-16; 8:45 am]

BILLING CODE 4910-13-P